DEPARTMENT OF TRANSPORTATION

Federal Aviation Administration

[Docket No. FAA-2000-8080]

Draft Advisory Circular (AC) No. 120-29A, Criteria for Approval of Non-Precision, Category I and Category II Weather Minima for Takeoff, Approach, and Landing

AGENCY: Federal Aviation Administration, DOT.

ACTION: Notice of availability of a draft advisory circular.

SUMMARY: This notice announces the availability of a draft AC which provides an acceptable means, but not the only means, of obtaining and maintaining approval of operations in Non-Precision, Category I and II Weather Minima, including installation and approval of associated aircraft systems. It includes additional or revised Category I and II criteria for use in conjunction with heads-up displays, use of required navigation performance, satellite navigation sensors, and ‘engine inoperative’ Category II criteria. This draft AC would replace AC 120-29, dated September 25, 1970, and represents the first steps of harmonization efforts of the Federal Aviation Administration, the European Joint Aviation Authority, and other regulatory authorities.

DATES: Comments on the draft AC must be received on or before October 31, 2000.

ADDRESSES: Address your comments to the Docket Management System, U.S. Department of Transportation, Room Plaza 401, 400 Seventh Street, SW., Washington, DC 20590-0001. You must identify the docket number FAA-2000-8080 at the beginning of your comments, and you should submit two copies of your comments. If you wish to receive confirmation that FAA received your comments, include a self-addressed, stamped postcard.

You may also submit comments through the Internet to http://dms.dot.gov. You may review the public docket containing comments to this AC in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Richard Temple, Flight Technologies and Procedures Division (AFS-400), Room 1132, Federal Aviation Administration, 600 Independence Ave., SW., Washington, DC 20591; telephone: (202) 267-5824.

Availability of the Advisory Circular

You can get an electronic copy using the Internet by taking the following steps:

(1) Go to the search function of the Department of Transportation's electronic Docket Management System (DMS) web page (http://dms.dot.gov/search).

(2) On the search page type in the last four digits of the Docket number shown at the beginning of this notice. Click on “search.”

(3) On the next page, which contains the Docket summary information for the Docket you selected, click on the document number of the item you wish to view.

You can also get an electronic copy using the Internet through FAA's web page at http://www.faa/gov/AVR/afs/afs410/afs410.htm.

Background

An initial draft of this AC was received from the Aviation Rulemaking Advisory committee (ARAC) in August 1998 and a notice of availability was published in the Federal Register in October 1998. The notice of availability stated that the FAA was reviewing the ARAC recommendation and that it may make revisions to the document before it is issued. The notice also stated that if the FAA decides to make any substantive changes in the draft AC, the revised document would be made available again for comment before final issuance. Subsequently, an internal FAA coordination process began in January 2000 and was completed in September 2000. This draft revision incorporates changes resulting from that review, as well as the ARAC recommendations and are the first steps toward international all weather operations criteria harmonization taken by the FAA, JAA and several other regulatory authorities. Comments received in response to this notice will be considered before a final AC is issued. This draft AC should be reviewed in conjunction with the regulatory requirements of 14 CFR parts 121, 125, and 135, as applicable. This draft AC would not change, add, or delete any regulatory requirement or authorize any deviation from parts 121, 125, or 135.

Issued in Washington, DC on October 6, 2000.
L. Nicholas Lacey,
Director, Flight Standards.

[FR Doc. 00-26514 Filed 10-13-00; 8:45 am]

BILLING CODE 4910-13-M